DEPARTMENT OF THE INTERIOR

Office of Surface Mining Reclamation and Enforcement

30 CFR Part 915

[Docket No. IA-016-FOR; Docket ID: OSM-2011-0014]

Iowa Regulatory Program

AGENCY: Office of Surface Mining Reclamation and Enforcement, Interior.

ACTION: Proposed rule; public comment period on proposed amendment.

SUMMARY: We, the Office of Surface Mining Reclamation and Enforcement (OSM), are announcing receipt of a proposed amendment to the Iowa regulatory program (Iowa program) under the Surface Mining Control and Reclamation Act of 1977 (SMCRA or the Act). Iowa proposes to revise its regulatory program by updating its adoption by reference of applicable portions of the Code of Federal Regulations. Iowa intends to revise its program to be consistent with the corresponding Federal regulations.

This document provides the times and locations that the Iowa program and proposed amendments to this program are available for your inspection, the comment period during which you may submit written comments on the amendment, and the procedures that we will follow for the public hearing, if one is requested.

DATES: We will accept written comments on the amendment until 4 p.m., c.d.t., November 16, 2011. If requested, we will hold a public hearing on the amendment on November 14, 2011. We will accept requests to speak at a hearing until 4 p.m., c.d.t., November 1, 2011.

ADDRESSES: You may submit comments, identified by Docket No. IA-016-FOR, by any of the following methods:

• E-mail: agilmore@osmre.gov. Include Docket No. IA-016-FOR in the subject line of the message.

• Mail/Hand Delivery: Andrew R. Gilmore, Chief, Alton Field Division, Office of Surface Mining Reclamation and Enforcement, 501 Belle Street, Alton, Illinois 62002.

• Fax: (618) 463-6470.

• Federal eRulemaking Portal: The amendment has been assigned Docket ID: OSM-2011-0014. If you would like to submit comments go to http://www.regulations.gov. Follow the instructions for submitting comments.

Instructions: All submissions received must include the agency name and docket number for this rulemaking. For detailed instructions on submitting comments and additional information on the rulemaking process, see the “Public Comment Procedures” heading of the SUPPLEMENTARY INFORMATION section of this document.

Docket: For access to the docket to review copies of the Iowa regulations, this amendment, a listing of any scheduled public hearings, and all written comments received in response to this document, you must go to the address listed below during normal business hours, Monday through Friday, excluding holidays. You may receive one free copy of the amendment by contacting OSM's Alton Field Division; or you can view the full text of the program amendment available for you to read at http://www.regulations.gov.

Andrew R. Gilmore, Chief, Alton Field Division, Office of Surface Mining Reclamation and Enforcement, 501 Belle Street, Alton, Illinois 62002. Telephone: (618) 463-6460. E-mail: agilmore@osmre.gov.

In addition, you may review a copy of the amendment during regular business hours at the following location:

Iowa Department of Agriculture and Land Stewardship, Division of Soil Conservation, Mines & Minerals Bureau, 502 E. 9th Street, Henry A. Wallace Building, Des Moines, Iowa 50319. Telephone: (515) 281-5347.

FOR FURTHER INFORMATION CONTACT: Andrew R. Gilmore, Chief, Alton Field Division. Telephone: (618) 463-6460. E-mail: agilmore@osmre.gov.

SUPPLEMENTARY INFORMATION:

I. Background on the Iowa Program

II. Description of the Proposed Amendment

III. Public Comment Procedures

IV. Procedural Determinations

I. Background on the Iowa Program

Section 503(a) of the Act permits a State to assume primacy for the regulation of surface coal mining and reclamation operations on non-Federal and non-Indian lands within its borders by demonstrating that its program includes, among other things, “a State law which provides for the regulation of surface coal mining and reclamation operations in accordance with the requirements of this Act * * *; and rules and regulations consistent with regulations issued by the Secretary pursuant to this Act.” See 30 U.S.C. 1253(a)(1) and (7). On the basis of these criteria, the Secretary of the Interior conditionally approved the Iowa program effective April 10, 1981. You can find background information on the Iowa program, including the Secretary's findings, the disposition of comments, and the conditions of approval, in the January 21, 1981, Federal Register (46 FR 5885). You can also find later actions concerning the Iowa program and program amendments at 30 CFR 915.10, 915.15, and 915.16.

Iowa uses a system of coal mining regulations that adopt the Federal regulations under SMCRA that are in effect up to a specific date. They note in their regulations, variations from the Federal regulations, primarily in reference to agency names, responsible officials, and other provisions to reflect Iowa law. The approved Iowa program is structured this way.

II. Description of the Proposed Amendment

By letter dated August 25, 2011 (Administrative Record No. IA-451), the Iowa Department of Agriculture and Land Stewardship, Division of Soil Conservation (IDSC) sent us amendments to its Program under SMCRA (30 U.S.C. 1201 et seq.) to satisfy ownership and control requirements and to update other provisions. Below is a summary of the changes proposed by Iowa. The full text of the program amendment is available for you to read at the locations listed above under ADDRESSES or at http://www.regulations.gov.

Adoptions by Reference of 30 CFR Part 700 to End Revised as of July 1, 2010

Iowa proposes to amend its adoption by reference regulations by updating dates of Federal regulations adopted to July 1, 2010, adding citations in its ownership and control requirement sections, and making other changes, all listed in the table below.

27 Iowa Administrative Code Chapter 40, coal mining rules | Topic
27—40.1(1) | Authority and scope.
27—40.3(207) | General.
27—40.4(207) | Permanent regulatory program and exemption for coal extraction incidental to the extraction of other minerals.
27—40.5(207) | Restrictions on financial interests of State employees.
27—40.6(207) | Exemptions for coal extraction incident to government—financed highway or other constructions.
27—40.7(207) | Protection of employees.
27—40.11(207) | Initial regulatory program.
27—40.12(207) | General performance standards—initial program.
27—40.13(207) | Special performance standards—initial program.
27—40.21(207), 40.21(3), 40.21(7) | Areas designated by an Act of Congress.
27—40.22(207), 40.22(1) | Criteria for designating areas as unsuitable for surface coal mining operations.
27—40.23(207) | State procedures for designating areas unsuitable for surface coal mining operations.
27—40.30(207) | Requirements for coal exploration.
27—40.31(207), 40.31(9), 40.31(10), 40.31(11) | Requirements for permits and permit processing.
27—40.32(207), 40.32(7) | Revision or amendment; renewal; and transfer, assignment, or sale of permit rights.
27—40.33(207) | General content requirements for permit applications.
27—40.34(207) | Permit application—minimum requirements for legal, financial, compliance, and related information.
27—40.35(207) | Surface mining permit applications—minimum requirements for information on environmental resources.
27—40.36(207), 40.36(2) | Surface mining permit applications—minimum requirements for reclamation and operation plan.
27—40.37(207) | Underground mining permit applications—minimum requirements for information on environmental resources.
27—40.38(207), 40.38(6) | Underground mining permit applications—minimum requirements for reclamation and operation plan.
27—40.39(207), 40.39(2), 40.39(3) | Requirements for permits for special categories of mining.
27—40.41(207) | Permanent regulatory program—small operator assistance program.
27—40.51(207) | Bond and insurance requirements for surface coal mining and reclamation operations under regulatory programs.
27—40.61(207) | Permanent program performance standards—general provisions.
27—40.62(207) | Permanent program performance standards—coal exploration.
27—40.63(207) | Permanent program performance standards—surface mining activities.
27—40.64(207) | Permanent program performance standards—underground mining activities.
27—40.65(207) | Special permanent program performance standards—auger mining.
27—40.66(207) | Special permanent program performance standards—operations on prime farmland.
27—40.67(207) | Permanent program performance standards—coal preparation plants not located within the permit area of a mine.
27—40.71(207) | State regulatory authority—inspection and enforcement.
27—40.74(207) | Civil penalties.
27—40.75(207) | Individual civil penalties.
27—40.81(207) | Permanent regulatory program requirements—standards for certification of blasters.
27—40.82(207) | Certification of blasters.

The full text of the program amendment is available for you to read at the locations listed above under ADDRESSES or at www.regulations.gov.

III. Public Comment Procedures

Under the provisions of 30 CFR 732.17(h), we are seeking your comments on whether the amendment satisfies the applicable program approval criteria of 30 CFR 732.15. If we approve the amendment, it will become part of the Iowa program.

Electronic or Written Comments

If you submit written comments, they should be specific, confined to issues pertinent to the proposed regulations, and explain the reason for any recommended change(s). We appreciate any and all comments, but those most useful and likely to influence decisions on the final regulations will be those that either involve personal experience or include citations to and analyses of SMCRA, its legislative history, its implementing regulations, case law, other pertinent State or Federal laws or regulations, technical literature, or other relevant publications.

We cannot ensure that comments received after the close of the comment period (see DATES) or sent to an address other than those listed (see ADDRESSES) will be included in the docket for this rulemaking and considered.

Public Availability of Comments

Before including your address, phone number, email address, or other personal identifying information in your comment, you should be aware that your entire comment—including your personal identifying information—may be made publicly available at any time. While you can ask us in your comment to withhold your personal identifying information from public review, we cannot guarantee that we will be able to do so.

Public Hearing

If you wish to speak at the public hearing, contact the person listed under FOR FURTHER INFORMATION CONTACT by 4 p.m., c.d.t. on November 1, 2011. If you are disabled and need reasonable accommodations to attend a public hearing, contact the person listed under FOR FURTHER INFORMATION CONTACT. We will arrange the location and time of the hearing with those persons requesting the hearing. If no one requests an opportunity to speak, we will not hold a hearing.

To assist the transcriber and ensure an accurate record, we request, if possible, that each person who speaks at the public hearing provide us with a written copy of his or her comments. The public hearing will continue on the specified date until everyone scheduled to speak has been given an opportunity to be heard. If you are in the audience and have not been scheduled to speak and wish to do so, you will be allowed to speak after those who have been scheduled. We will end the hearing after everyone scheduled to speak and others present in the audience who wish to speak, have been heard.

Public Meeting

If only one person requests an opportunity to speak, we may hold a public meeting rather than a public hearing. If you wish to meet with us to discuss the amendment, please request a meeting by contacting the person listed under FOR FURTHER INFORMATION CONTACT. All such meetings are open to the public. If possible, we will post notices of meetings at the locations listed under ADDRESSES. We will make a written summary of each meeting a part of the administrative record.

IV. Procedural Determinations

Executive Order 12866—Regulatory Planning and Review

This rule is exempted from review by the Office of Management and Budget (OMB) under Executive Order 12866.

Other Laws and Executive Orders Affecting Rulemaking

When a State submits a program amendment to OSM for review, our regulations at 30 CFR 732.17(h) require us to publish a notice in the Federal Register indicating receipt of the proposed amendment, its text or a summary of its terms, and an opportunity for public comment. We conclude our review of the proposed amendment after the close of the public comment period and determine whether the amendment should be approved, approved in part, or not approved. At that time, we will also make the determinations and certifications required by the various laws and executive orders governing the rulemaking process and include them in the final rule.

List of Subjects in 30 CFR Part 915

Intergovernmental relations, Surface mining, Underground mining.

Dated: September 6, 2011.
Ervin J. Barchenger,
Regional Director, Mid-Continent Region.

[FR Doc. 2011-26764 Filed 10-14-11; 8:45 am]

BILLING CODE 4310-05-P